DEPARTMENT OF THE INTERIOR

Fish and Wildlife Service

[Docket No. FWS-HQ-IA-2024-0141; FXIA16710900000-245-FF09A30000]

Foreign Endangered Species; Receipt of Permit Applications

AGENCY: Fish and Wildlife Service, Interior.

ACTION: Notice of receipt of permit applications; request for comments.

SUMMARY: We, the U.S. Fish and Wildlife Service, invite the public to comment on applications to conduct certain activities with foreign species that are listed as endangered under the Endangered Species Act (ESA). With some exceptions, the ESA prohibits activities with listed species unless Federal authorization is issued that allows such activities. The ESA also requires that we invite public comment before issuing permits for any activity otherwise prohibited by the ESA with respect to any endangered species.

DATES: We must receive comments by November 8, 2024.

ADDRESSES: Obtaining Documents: The applications, application supporting materials, and any comments and other materials that we receive will be available for public inspection at https://www.regulations.gov in Docket No. FWS-HQ-IA-2024-0141.

Submitting Comments: When submitting comments, please specify the name of the applicant and the permit number at the beginning of your comment. You may submit comments by one of the following methods:

• internet: https://www.regulations.gov. Search for and submit comments on Docket No. FWS-HQ-IA-2024-0141.

• U.S. mail: Public Comments Processing, Attn: Docket No. FWS-HQ-IA-2024-0141; U.S. Fish and Wildlife Service Headquarters, MS: PRB/3W; 5275 Leesburg Pike; Falls Church, VA 22041-3803.

For more information, see Public Comment Procedures under SUPPLEMENTARY INFORMATION.

FOR FURTHER INFORMATION CONTACT: Timothy MacDonald, by phone at 703-358-2185 or via email at DMAFR@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

I. Public Comment Procedures

A. How do I comment on submitted applications?

We invite the public and local, State, Tribal, and Federal agencies to comment on these applications. Before issuing any of the requested permits, we will take into consideration any information that we receive during the public comment period.

You may submit your comments and materials by one of the methods in ADDRESSES. We will not consider comments sent by email or to an address not in ADDRESSES. We will not consider or include in our administrative record comments we receive after the close of the comment period (see DATES).

When submitting comments, please specify the name of the applicant and the permit number at the beginning of your comment. Provide sufficient information to allow us to authenticate any scientific or commercial data you include. The comments and recommendations that will be most useful and likely to influence agency decisions are: (1) those supported by quantitative information or studies, and (2) those that include citations and analyses of the applicable laws and regulations.

B. May I view comments submitted by others?

You may view and comment on others' public comments at https://www.regulations.gov unless our allowing so would violate the Privacy Act (5 U.S.C. 552a) or Freedom of Information Act (5 U.S.C. 552).

C. Who will see my comments?

If you submit a comment at https://www.regulations.gov, your entire comment, including any personal information you include, will be posted on the website. Regulations.gov does not require personal information if a submitter chooses to submit a comment anonymously. If you submit a hardcopy comment that includes personal information, such as your address, phone number, or email address, you may request at the top of your document that we withhold this information from public view. However, we cannot guarantee that we will be able to do so. Moreover, all submissions from organizations or businesses, and from individuals identifying themselves as representatives or officials of organizations or businesses, will be made available for public disclosure in their entirety.

II. Background

To help us carry out our conservation responsibilities for affected species, and in consideration of section 10(c) of the Endangered Species Act of 1973, as amended (ESA; 16 U.S.C. 1531 et seq.), we invite public comments on permit applications before final action is taken. With some exceptions, the ESA prohibits certain activities with listed species unless Federal authorization is issued that allows such activities. Permits issued under section 10(a)(1)(A) of the ESA allow otherwise prohibited activities for scientific purposes or to enhance the propagation or survival of the affected species. Service regulations regarding prohibited activities with endangered species, captive-bred wildlife registrations, and permits for any activity otherwise prohibited by the ESA with respect to any endangered species are available in title 50 of the Code of Federal Regulations in part 17 (50 CFR 17).

III. Permit Applications

We invite comments on the following applications.

Applicant: Mitchel Kalmanson, Sorrento, FL; Permit No. PER12003722

The applicant requests a permit to import four male and three female captive-bred African lions (Panthera leo leo) from Zoo Animalia, Saint-Edouard-de-Maskinonge, Quebec, Canada, for the purpose of enhancing the propagation or survival of the species. This notification is for a single import.

Applicant: Fresno's Chaffee Zoo, Fresno, CA; Permit No. PER12575644

The applicant requests a permit to import from Singapore one male captive-born tiger (Panthera tigris) for the purpose of enhancing the propagation or survival of the species. This notification is for a single import.

Applicant: Zoo Atlanta, Atlanta, GA; Permit No. PER12275493

The applicant requests a permit to export biological samples extracted from captive-born giant pandas (Ailuropoda melanoleuca) for the purpose of scientific research. This notification is for a single export.

Applicant: Zoological Society of San Diego, San Diego, CA; Permit No. PER12097590

The applicant requests a captive-bred wildlife registration under 50 CFR 17.21(g) for the following species, to enhance the propagation or survival of the species. This notification covers activities to be conducted by the applicant over a 5-year period.

Common name | Scientific name
Great green macaw | Ara ambiguus
Blue-throated macaw | Ara glaucogularis
Cheetah | Acinonyx jubatus
Bahaman or Cuban parrot | Amazona leucocephala
Chinese alligator | Alligator sinensis
Brush-tailed rat-kangaroo | Bettongia penicillata
Banteng | Bos javanicus
Fiji banded iguana | Brachylophus fasciatus
Lowland anoa | Bubalus depressicornis
White cockatoo | Cacatua alba
Salmon-crested cockatoo | Cacatua moluccensis
White-winged wood duck | Cairina scutulata
Southern white rhino | Ceratotherium simum simum
Galapagos tortoise | Geochelone nigra
Jamaican iguana | Cyclura collei
Maned wolf | Chrysocyon brachyurus
Blue-billed curassow | Crax alberti
Bontebok | Damaliscus pygarus (=dorcas) dorcas
Aye-aye | Daubentonia madagascariensis
Black rhinoceros | Diceros bicornis
Asian Elephant | Elephas maximus
African wild ass | Equus africanus
Przewalski's horse | Equus przewalski
Grevy's zebra | Equus grevyi
Collared brown lemur | Eulemur collaris
Black-footed cat | Felis nigripes
Gavial | Gavialis gangeticus
Slender-horned gazelle | Gazella leptoceras
Madagascar radiated tortoise | Geochelone radiata
Spotted pond turtle | Geoclemys hamiltonii
Northern bald ibis | Geronticus eremita
Gorilla | Gorilla gorilla
Japanese crane | Grus japonensis
Harpy eagle | Harpia harpyja
Red lechwe | Kobus leche
Ring-tailed lemur | Lemur catta
Golden lion tamarin | Leontopithecus rosalia
Rothschild's (myna) starling | Leucopsar rothschildi
Lion-tailed macaque | Macaca silenus
Maleo megapode | Macrocephalon maleo
Parma wallaby | Macropus parma
Mandrill | Mandrillus (=Papio) sphinx
African slender-snouted crocodile | Crocodylus cataphractus
Clouded leopard | Neofelis nebulosa
Red-cheeked gibbon | Nomascus gabriellae
Arabian oryx | Oryx leucoryx
African dwarf crocodile | Osteolaemus tetraspis tetraspis
Pygmy chimpanzee | Pan paniscus
Lion | Panthera leo melanochaita
Leopard | Panthera pardus
Tiger | Panthera tigris
Snow leopard | Uncia (=Panthera) uncia
Yellow-footed rock wallaby | Petrogale xanthopus
Koala | Phascolarctos cinereus
Orangutan | Pongo abelii
Orangutan | Pongo pygmaeus
Coquerel's sifaka | Propithecus coquereli
Rodrigues fruit bat | Pteropus rodricensis
Pudu | Pudu pudu
Blue-throated parakeet | Pyrrhura cruentata
Kagu | Rhynochetos jubatus
Swamp deer | Cervus duvauceli
Eld's brow-antlered deer | Cervus eldi
African penguin | Spheniscus demersus
Siamang | Symphalangus syndactylus
Central American tapir | Tapirus bairdii
Asian tapir | Tapirus indicus
Gelada baboon | Theropithecus gelada
Guam (=Sihek) kingfisher | Todiramphus cinnamominus
Francois' langur | Trachypithecus (=Presbytis) francoisi
Blyth's tragopan pheasant | Tragopan blythii
Komodo Island monitor | Varanus komodoensis
Andean condor | Vultur gryphus

Applicant: Georgia Safari Conservation Park, Madison, GA; Permit No. PER12289890

The applicant requests a captive-bred wildlife registration under 50 CFR 17.21(g) for the Hartmann's mountain zebra (Equus zebra hartmannae) and southern white rhinoceros (Ceratotherium simum simum), to enhance the propagation or survival of the species. This notification covers activities to be conducted by the applicant over a 5-year period.

Multiple Trophy Applicants

The following applicants request permits to import sport-hunted trophies of male bontebok (Damaliscus pygargus pygargus) culled from a captive herd maintained under the management program of the Republic of South Africa, for the purpose of enhancing the propagation or survival of the species.

• Applicant: Keith R. Warren, Seguin, TX; Permit No. PER12017464

• Applicant: Daniel Macerelli, McKeesport, PA; Permit No. PER12034356

• Applicant: Robert Arthur Sparks, Empire, CO; Permit No. PER12331219

• Applicant: Brian Arnold, Augusta, GA; Permit No. PER12415938

• Applicant: Michael Merchant, Oxford, MS; Permit No. PER12428370

• Applicant: Drew O'Connor Dennison, St. Louis, MO; Permit No. PER12540160

• Applicant: Max S. Buck, Molt, MT; Permit No. PER12540321

IV. Next Steps

After the comment period closes, we will make decisions regarding permit issuance. If we issue permits to any of the applicants listed in this notice, we will publish a notice in the Federal Register. You may locate the notice announcing the permit issuance by searching https://www.regulations.gov for the permit number listed above in this document. For example, to find information about the potential issuance of Permit No. 12345A, you would go to regulations.gov and search for “12345A”.

V. Authority

We issue this notice under the authority of the Endangered Species Act of 1973, as amended (16 U.S.C. 1531 et seq.), and its implementing regulations.

Timothy MacDonald,
Government Information Specialist, Branch of Permits, Division of Management Authority.

[FR Doc. 2024-23344 Filed 10-8-24; 8:45 am]

BILLING CODE 4333-15-P